DEPARTMENT OF DEFENSE

Office of the Secretary

[Docket ID DoD-2009-OS-0127]

Privacy Act of 1974; System of Records

Agency: Office of the Secretary, DoD.

Action: Notice to delete five systems of records.

SUMMARY: The Office of the Secretary of Defense is deleting five systems of records notices in its existing inventory of record systems subject to the Privacy Act of 1974, (5 U.S.C. 552a), as amended.

DATES: This proposed action will be effective without further notice on September 18, 2009 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-6830.

SUPPLEMENTARY INFORMATION: The Office of the Secretary of Defense systems of records notices subject to the Privacy Act of 1974, (5 U.S.C. 552a), as amended, have been published in the Federal Register and are available from the address above.

The Office of the Secretary of Defense proposes to delete five systems of records notices from its inventory of record systems subject to the Privacy Act of 1974 (5 U.S.C. 552a), as amended. The proposed deletions are not within the purview of subsection (r) of the Privacy Act of 1974, (5 U.S.C. 552a), as amended, which requires the submission of a new or altered system report.

Dated: August 12, 2009.
Patricia L. Toppings,
OSD Federal Register Liaison Officer, Department of Defense.

DMDC 09

Deletions:

Archival Purchase Card File (February 19, 2008, 73 FR 9100).

Reason:

Based on review of DMDC 09, it has been concluded that this system is covered by GSA/Govt 6, GSA SmartPay Purchase Charge Card Program, a government umbrella system, and can therefore be deleted.

DMDC 06

Federal Creditor Agency Debt Collection Data Base (October 2, 2007, 72 FR 56069)

Reason:

Based on review of DMDC 06, it has been concluded that this system is no longer maintained. It has been confirmed that all past records have been deleted in accordance with established OSD records instructions and that the Federal Creditor Agency Debt Collection Data Base program is no longer in use at DMDC.

WUSU 15

USUHS Security Status Master List (February 22, 1993, 58 FR 10920).

Reason:

Based on review of WUSU 15, it has been concluded that this system is covered by DSS V5-05, Joint Personnel Adjudication System, a DoD umbrella system and can therefore be deleted.

WUSU 02

Uniformed Services University of the Health Sciences (USUHS) Payroll System (February 22, 1993, 58 FR 10920).

Reason:

Based on review of WUSU 02, it has been concluded that this system is covered under a DoD umbrella SORN, T7335, Defense Civilian Payroll System (DFAS) and can therefore be deleted.

DMDC 03

Defense Outreach Referral System (DORS) (October 2, 2007, 72 FR 56066).

Reason:

Based on review of DMDC 03, it has been concluded that this system is no longer maintained. It has been confirmed that all past records have been deleted in accordance with established DoD records instructions and that the Defense Outreach Referral System program is no longer in use at DMDC.

[FR Doc. E9-19874 Filed 8-18-09; 8:45 am]

BILLING CODE 5001-06-P